INTERNATIONAL TRADE COMMISSION

[Inv. No. 337-TA-1155]

Certain Luxury Vinyl Tile and Components Thereof; Institution of Investigation

AGENCY: U.S. International Trade Commission.

ACTION: Notice.

SUMMARY: Notice is hereby given that a complaint was filed with the U.S. International Trade Commission on March 25, 2019, under section 337 of the Tariff Act of 1930, as amended, on behalf of Mohawk Industries, Inc., of Calhoun, Georgia; Flooring Industries. Ltd. Sarl of Luxembourg; and IVC US Inc. of Dalton, Georgia. Supplements to the Complaint were filed on April 10, 15 and 29, 2019. The complaint, as supplemented, alleges violations of section 337 based upon the importation into the United States, the sale for importation, and the sale within the United States after importation of certain luxury vinyl tile and components thereof by reason of infringement of certain claims of U.S. Patent No. 9,200,460 (“the '460 patent”); U.S. Patent No. 10,208,490 (“the '490 patent”); and U.S. Patent No. 10,233,655 (“the '655 patent”). The complaint further alleges that an industry in the United States exists or is in the process of being established as required by the applicable Federal Statute.

The complainants request that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2018).

Scope of Investigation: Having considered the complaint, as supplemented, the U.S. International Trade Commission, on May 9, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 7, 8, 13, 15-17, 20-23, and 30 of the '460 patent; claims 1-21 of the '490 patent; and claims 1-27 of the '655 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “interlocking luxury vinyl tile floor panels and components thereof”;

(3) For the purpose of the investigation so instituted, the following are hereby named as parties upon which this notice of investigation shall be served:

(a) The complainant are:

Mohawk Industries, Inc., 160 South Industrial Blvd., Calhoun, GA 30701

Flooring Industries Ltd. Sarl, 10B rue des Merovingiens, Bertrange, 8070, Luxembourg

IVC US Inc., 101 IVC Drive, Dalton, GA 30721

(b) The respondents are the following entities alleged to be in violation of section 337, and are the parties upon which the complaint is to be served:

ABK Trading Corp., 925 S. Mason Road, Suite 168, Katy, TX 77450, Telephone: (713) 973-7800

Anhui Hanhua Building Materials Co., Ltd., No. 16 West Jinqiao Road, Langxi Economic Development Zone, Xuancheng, Anhui 242000, China

Aspecta North America, LLC, 15 Oakwood Avenue, Norwalk, CT 06850, Telephone: (855) 400-7732

Aurora Flooring LLC, 1920 Shiloh Road NW, Bldg. 5, Kennesaw, GA 30144, Telephone: (678) 460-0064

Benchwick Construction Products Ltd., No. 199 Gaojia Road, Wujin District, Changzhou, Jiangsu 213000, China

Changzhou Jinuo Decorative Material Co., Ltd, No. 4 Cuili Road, Henglin, Changzhou, Jiangsu 213103, China

Changzhou Marco Merit International Solutions Co., Room 1405, Haoyuan Building, No. 266 Tongjiang Middle Road, Xinbei, Changzhou, Jiangsu 213022, China

Changzhou Runchang Wood Co., Ltd., 5 Bangshang Road, Cuiqiao North Industrial Zone, Henglin, Changzhou, Jiangsu 213103, China

Christina & Son Inc., 4359 Temple City Blvd., Temple City, CA 91780, Telephone: (626) 448-4088

Chungstine Inc. d/b/a Expert Hardwood Flooring, 451 Kettering Drive, Ontario, CA 91761

Davati Group LLC, 6000 S Congress Ave., Suite 101, Austin, TX 78745, Telephone: (512) 371-6096

DeSoto Sales, Inc., 20945 Osborne St., Canoga Park, CA 91304, Telephone: (800) 826-9779

Global Wood Inc., 1180 Centre Drive, Suite A, Walnut, CA 91789, Telephone: (909) 598-8538

Go-Higher Trading (Jiangsu) Co., Ltd., No. 5-1001 Changfa Commercial Plaza, Xinbei, Changzhou, Jiangsu 213000, China

Golden Tree Import & Export Inc., 4359 Temple City Blvd., Temple City, CA 91780, Telephone: (626) 448-4489

Halstead New England Corp., 15 Oakwood Avenue, Norwalk, CT 06850, Telephone: (202) 299-3100

Hangzhou Kingdom Import & Export Trading Co. Ltd., 10F, Suite D, Building 8, New Territory Westport, No. 206 Zhenhua Road, Hangzhou 310030, China

IN.id Corp., 23545 Palomino Drive #135, Diamond Bar, CA 91765

JC Int'l Trading, Inc., 1140 Centre Dr., Unit W, City of Industry, CA 91789, Telephone: (909) 594-3333

Jiangsu Divine Building Technology Development Co. Ltd., No. 27 CuiRong Road, Shuangrong, Henglin, Wujin, Changzhou Jiangsu 213103, China

Jiangsu Lejia Plastic Co. Ltd., Shuang Rong, Henglin, Changzhou, Jiangsu 213103, China

JiangSu Licheer Wood Co., Ltd., 10 Ying Bing Road, Cuibei, Henglin, Wujin, Changzhou, Jiangsu 213103, China

JiangSu TongSheng Decorative Materials Co., Ltd., No. 2 Chuangsheng Road, Luoyang Industrial Zone, Wujin, Changzhou, Jiangsu 213000, China

Jkgy Inc. d/b/a Nextar Trading, 220 Mason Way, City of Industry, CA 91745-2329, Telephone: (626) 581-4790

KJ Carpet Wholesale, Inc., 1614 South Reservoir Street, Pomona, CA 91766, Telephone: (909) 455-0190

Maxwell Flooring Distribution LLC, 1075 West Sam Houston Pkwy North, Suite 216, Houston, TX 77043, Telephone: (713) 973-2288

Metroflor Corp., 15 Oakwood Avenue, Norwalk, CT 06850, Telephone: (866) 882-4408

Mountain High Corp., 2537 Durfee Ave., El Monte, CA 91732, Telephone: (626) 288-7333

Mr. Hardwood Inc., 4260 Industrial Center Ln NW #100, Acworth, GA 30101, Telephone: (678) 935-6677

National Coverings, LLC, 2952 NW 60th St., Ft. Lauderdale, FL 33309, Telephone: (800) 498-1750

Nextar Wholesale, 1201 S. Jellick Avenue, City of Industry, CA 91745

Northann Distribution Center Inc., 7495 Resee Road, Sacramento, CA 95828, Telephone: (916) 682-7476

Pentamax Inc., 2410 South Sierra Drive, Compton, CA 90220

RBT Industries LLC d/b/a Hardwood Bargains, 1340 Airport Commerce Drive, Suite 425, Austin, TX 78741, Telephone: (844) 746-0744

RC Vinyl Inc., 1140 Centre Dr., Unit W, City of Industry, CA 91789, Telephone: (909) 594-3333

Royal Family Inc., 4359 Temple City Blvd., Temple City, CA 91780, Telephone: (626) 448-4088

Sam Houston Hardwood Inc., 1075 W Sam Houston Pkwy. North, Suite 204, Houston, TX 77043

Zhejiang Changxing Senda Bamboo and Wood Products Co. Ltd., Bai Xian Industrial Park, Changxing, Huzhou 313100 Zhejiang, China

Zhangjiagang Elegant Home-Tech Co. Ltd, Hexing Civil Industrial Zone, Zhangjiagang, Jiangsu 215626, China

Zhangjiagang Elegant Plastics Co. Ltd., Hexing Civil Industrial Zone, Zhangjiagang, Jiangsu 215616, China

Zhangjiagang Yihua Plastics Co., Ltd, 88 Fuxing Road, Zhangjiagang, Jiangsu 215600, China

Zhangjiagang Yihua Rundong New Material Co. Ltd, Yangshe Town Industry Development Area, Zhangjiagang, Jiangsu 215600, China

Zhejiang Kimay Building Material Technology Co., Ltd., No. 380 Haifeng Road, Building 3, Haichang, Haining, Jiaxing, Zhejiang 314300, China

Zhejiang Kingdom Flooring Plastic Co., Ltd., 38 Desheng Road, Heshan, Tongxiang, Zhejiang 314512, China

Zhejiang Walrus New Material Co., Ltd., No. 380 Haifeng Road, Building 3, Haichang, Haining, Jiaxing, Zhejiang 314300, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the Administrative Law Judge and the Commission, without further notice to the respondent, to find the facts to be as alleged in the complaint and this notice and to enter an initial determination and a final determination containing such findings, and may result in the issuance of an exclusion order or a cease and desist order or both directed against the respondent.

By order of the Commission.
Issued: May 10, 2019.
Katherine Hiner,
Secretary to the Commission.

[FR Doc. 2019-10111 Filed 5-15-19; 8:45 am]

BILLING CODE 7020-02-P